INTERNATIONAL TRADE COMMISSION

[Investigations Nos. 701-TA-355 and 731-TA-659-660 (Review)]

Grain-Oriented Silicon Electrical Steel From Italy and Japan

Determination

On the basis of the record¹ developed in the subject five-year reviews, the United States International Trade Commission determines,² pursuant to section 751(c) of the Tariff Act of 1930 (19 U.S.C. 1675(c)) (the Act), that revocation of the countervailing duty order on imports of grain-oriented silicon electrical steel from Italy and revocation of the antidumping duty orders on imports of grain-oriented silicon electrical steel from Italy and Japan would be likely to lead to continuation or recurrence of material injury to an industry in the United States within a reasonably foreseeable time.

¹ The record is defined in sec. 207.2(f) of the Commission's Rules of Practice and Procedure (19 CFR 207.2(f)).

² Vice Chairman Deanna Tanner Okun and Commissioners Lynn M. Bragg and Jennifer A. Hillman dissenting.

Background

The Commission instituted these reviews on December 1, 1999 (64 FR 67318) and determined on March 3, 2000, that it would conduct full reviews (65 FR 13989, March 15, 2000). Notice of the scheduling of the Commission's reviews and of a public hearing to be held in connection therewith was given by posting copies of the notice in the Office of the Secretary, U.S. International Trade Commission, Washington, DC, and by publishing the notice in the Federal Register on August 16, 2000 (65 FR 50004).³ The hearing was held in Washington, DC, on January 11, 2001, and all persons who requested the opportunity were permitted to appear in person or by counsel.

³ As revised by 65 FR 75302, December 1, 2000.

The Commission transmitted its determinations in this investigation to the Secretary of Commerce on February 23, 2001. The views of the Commission are contained in USITC Publication 3396 (February 2001), entitled Grain-Oriented Silicon Electrical Steel from Italy and Japan: Investigations Nos. 701-TA-355 and 701-TA-659-660 (Review).

Issued: February 26, 2001.
By order of the Commission.
Donna R. Koehnke,
Secretary.

[FR Doc. 01-5004 Filed 2-28-01; 8:45 am]

BILLING CODE 7020-02-U